DEPARTMENT OF TRANSPORTATION

Federal Motor Carrier Safety Administration

Request to Medical Examiners on the National Registry of Certified Medical Examiners Regarding Submission of Examination Results

AGENCY: Federal Motor Carrier Safety Administration (FMCSA), Transportation (DOT).

ACTION: Request for examination results.

SUMMARY: FMCSA requests that medical examiners (MEs), by September 30, 2021, submit results of physical qualification examinations conducted during the National Registry of Certified Medical Examiners (National Registry) outage from December 1, 2017, through August 13, 2018. During the outage, FMCSA encouraged MEs to continue conducting physical qualification examinations and instructed MEs to submit examination results to the National Registry when upload functionality was restored. The upload functionality was fully restored on August 13, 2018, but a significant number of healthcare professionals have not uploaded the results from examinations conducted during the National Registry outage. FMCSA requests that the examiners in question upload the information.

DATES: Medical examiners should submit the results from examinations conducted between December 1, 2017, and August 13, 2018, to the Agency by September 30, 2021.

FOR FURTHER INFORMATION CONTACT: Ms. Christine A. Hydock, Chief, Medical Programs Division, FMCSA, 1200 New Jersey Avenue SE, Washington, DC 20590-0001; telephone (202) 366-4001; fmcsamedical@dot.gov.

SUPPLEMENTARY INFORMATION:

I. Background

Enacted in 2005 and amended in 2012, 49 U.S.C. 31149 authorizes the National Registry program. Among other statutory mandates, section 31149 directed the Secretary, acting through FMSCA, to establish the National Registry and to require MEs to transmit electronically certain information about completed medical examination results of commercial motor vehicle (CMV) drivers (section 31149(c)(1)(E), (d)(1)). To implement the requirements of section 31149, FMCSA issued a final rule in 2012 establishing the National Registry (77 FR 24104 (Apr. 20, 2012)). This rule also required MEs to submit a CMV Driver Medical Examination Results Form, MCSA-5850, to FMCSA for each physical examination conducted during the previous month for any driver who is required to be examined by an ME listed on the National Registry. This rule was amended in 2015 to require MEs to report results of all CMV drivers' physical examinations conducted (including the results of examinations where the driver was found not to be qualified) to FMCSA by midnight local time of the next calendar day following the examination, beginning on June 22, 2018 (80 FR 22790 (Apr. 23, 2015); 80 FR 35577 (Jun. 22, 2015)).

II. National Registry Outage

In December 2017, an incident occurred that caused the Agency to take the National Registry system offline. Unfortunately, during the outage, MEs were not able to access their National Registry accounts to upload results of examinations conducted. MEs were encouraged to continue conducting physical qualification examinations and issuing Medical Examiner's Certificates to qualified CMV drivers. MEs were also informed that they should segregate all examinations completed during the outage and be prepared to upload them to the National Registry system when it is back online and operating normally.

III. National Registry Reporting Functionality Restored

The functionality for MEs to submit results of examinations to the National Registry was restored on June 22, 2018. The functionality for Medical Examiner Administrative Assistants (MEAAs) and Third Party Organizations (TPOs) to submit results of examinations on behalf of MEs to the National Registry was restored on August 13, 2018. Therefore, MEs were instructed to resume submitting results of examinations conducted either through their National Registry account or by using their designated MEAAs or TPOs, in accordance with 49 CFR 391.43(g)(5)(i)(B) and (5)(ii).

Although the functionality to enter results of examinations conducted had been restored, FMCSA was concerned that the temporary National Registry system would not be able to handle the usual daily activity together with the additional activity for results from examinations conducted during the time the National Registry was offline. Therefore, on June 27, 2018, FMCSA sent an email to all MEs explaining that FMCSA was not requiring MEs to immediately upload results of the examinations conducted during the National Registry outage and that it would provide an extended period to upload results of examinations conducted during the National Registry outage. The Agency explained that, in an effort to limit the time burden on MEs, it would ensure that MEs have ample time to upload results of these examinations.

IV. Request for Examination Results

Due to continued improvements to the National Registry system, FMCSA is no longer concerned about the increased activity of uploading results of examinations that occurred during the National Registry outage. FMCSA is aware that while many MEs have submitted results of examinations conducted while the National Registry was offline, others still have not done so. FMCSA estimates that approximately 14,000 MEs still have examinations results to upload. This includes MEs who were certified and actively uploading results of examinations conducted on December 1, 2017, when the National Registry was taken offline, who have successfully migrated their National Registry account, and who have been using the interim National Registry system. This activity demonstrates that they have continued to conduct physical qualification examinations, but may not have uploaded results of any examinations conducted between the outage period of December 1, 2017, and August 13, 2018. Therefore, FMCSA requests that MEs who have not yet submitted results of examinations conducted during the National Registry outage, between December 1, 2017, and August 13, 2018, report the outstanding results to the National Registry through their National Registry account or by a designated MEAA or TPO no later than September 30, 2021. FMCSA makes this request to ensure, to the greatest extent possible, that results of all examinations conducted during the outage are reported to the National Registry.

Meera Joshi,
Deputy Administrator.

[FR Doc. 2021-16955 Filed 8-6-21; 8:45 am]

BILLING CODE 4910-EX-P